DEPARTMENT OF THE TREASURY

Internal Revenue Service

26 CFR Part 1

[REG-109367-06]

RIN 1545-BF52

Section 1221(a)(4) Capital Asset Exclusion for Accounts and Notes Receivable

AGENCY: Internal Revenue Service (IRS), Treasury.

ACTION: Correction notice.

SUMMARY: This document corrects a notice of proposed rulemaking (REG-109367-06) that was published in the Federal Register on Monday, August 7, 2006 (71 FR 44600) clarifying the circumstances in which accounts or notes receivable are “acquired * * * for services rendered” within the meaning of section 1221(a)(4) of the Internal Revenue Code.

FOR FURTHER INFORMATION CONTACT: K. Scott Brown (202) 622-7454 (not a toll-free number).

SUPPLEMENTARY INFORMATION:

Background

The notice of proposed rulemaking (REG-109367-06) that is the subject of this correction is under section 1221 of the Internal Revenue Code.

Need for Correction

As published, REG-109367-06 contains an error that may prove to be misleading and is in need of clarification.

Correction of Publication

Accordingly, the publication of the proposed regulations (REG-109367-06) which was the subject of FR Doc. E6-12789, is corrected as follows:

1. On page 44600, column 1, in the preamble, under the caption FOR FURTHER INFORMATION CONTACT, line 2, the language “Scott Brown (202) 622-3920 (not a toll-” is corrected to read “Scott Brown (202) 622-7454 (not a toll-”.

Guy Traynor,
Chief, Publications and Regulations Branch, Legal Processing Division, Associate Chief Counsel (Procedure and Administration).

[FR Doc. E6-14003 Filed 8-23-06; 8:45 am]

BILLING CODE 4830-01-P